DEPARTMENT OF STATE

[Public Notice 7517]

Bureau of Educational and Cultural Affairs (ECA) Request for Grant Proposals: Global Connections and Exchange Program: U.S.-Russia Virtual Science Challenge for Youth

Announcement Type: Cooperative Agreement.

Funding Opportunity Number: ECA/PE/C/PY-12-02.

Catalog of Federal Domestic Assistance Number: 19.415.

Application Deadline: August 31, 2011.

Executive Summary: The Youth Programs Division, Office of Citizen Exchanges, of the Bureau of Educational and Cultural Affairs announces an open competition for the new U.S.-Russia Virtual Science Challenge for Youth under the Global Connections and Exchange Program. Public and private non-profit organizations meeting the provisions described in Internal Revenue Code section 26 U.S.C. 501(c)(3) may submit proposals to conduct a program that will use connective technologies to increase scientific collaboration between American and Russian secondary school students. Bi-national teams will work together in a joint project to solve a global science problem using online tools, videoconferencing, virtual workshops, and other advanced methods of communication. The projects may culminate in a virtual science fair attended by students around the world. The engagement of private sector partners and specific plans to create a sustainable program after the fair also distinguish this program.

I. Funding Opportunity Description

Authority: Overall grant making authority for this program is contained in the Mutual Educational and Cultural Exchange Act of 1961, Public Law 87-256, as amended, also known as the Fulbright-Hays Act. The purpose of the Act is “to enable the Government of the United States to increase mutual understanding between the people of the United States and the people of other countries * * *; to strengthen the ties which unite us with other nations by demonstrating the educational and cultural interests, developments, and achievements of the people of the United States and other nations * * * and thus to assist in the development of friendly, sympathetic and peaceful relations between the United States and the other countries of the world.” The funding authority for the program above is provided through legislation.

Purpose: The U.S.-Russia Virtual Science Challenge for Youth will link teams of secondary school students in Russia and the United States that involve approximately 20 students in each country in a program designed to promote science education and expertise. The program will feature two key components: (1) An online, interactive project between Russian and American high school students that includes virtual meetings and workshops facilitated by experts in the private and public sectors and the mentoring of bi-national teams of students in science; and (2) an international virtual science fair that enables these bi-national teams to present the results of their collaboration around a pre-determined science problem, and to compete for recognition.

This program is part of the Global Connections and Exchange (GCE) Program for secondary school Internet connectivity and curriculum development. Students and teachers receive specialized training and develop skills to participate in online collaborative activities. GCE programs empower youth to use technology to tackle universal issues and engage participants in dialogue with the international community. Through this exchange of information, students are able to expand their world vision and gain perspectives that will help them succeed in the international arena.

This particular project is being presented under the auspices of the U.S.-Russia Bilateral Presidential Commission. Under the leadership of President Obama and President Medvedev and coordinated by Secretary Clinton and Foreign Minister Lavrov, the Commission is dedicated to identifying areas of cooperation and pursuing joint projects and actions that strengthen strategic stability, international security, economic well-being, and the development of ties between the Russian and American people. The Virtual Science Challenge falls within the purview of the Education, Sports and Cultural Exchanges working group. Learn more about the Bilateral Presidential Commission at http://www.state.gov/p/eur/rls/fs/130616.htm.

Goals: A successful program will:

• Provide high school students with a real-life example of what they can accomplish through international scientific collaboration;

• Offer a dynamic opportunity for youth to engage in scientific inquiry and applied science, to share their activities in a virtual science fair, and to learn about other students' efforts in science and technology;

• Promote mutual understanding and sustainable partnerships between American and Russian high school students, teachers, and their schools;

• Showcase the innovative technology available for conducting a virtual collaboration between the two countries;

• Expand the network of science students in the two participating countries.

Applicants are strongly urged to:

• Garner private sector support. The Bureau encourages the expansion of the scope of this program beyond what it is able to fund. Private sector monies and in-kind offerings may be used to increase the number of cities and schools that can participate in the program, to increase the number of students that participate, or to utilize more sophisticated platforms for virtual collaboration.

• Utilize existing networks where feasible. This effort may include involving paired city or state programs between Russia and the United States and/or online forums such as GLOBE (http://www.globe.gov). The purpose is to leverage existing connections and build upon them to allow for deeper connections among real and virtual communities.

• Develop a model for scientific collaboration that outlives this program. The Bureau encourages the creation of sustainable programming that enables the lessons learned during its implementation to be shared with other educators for similar programs around the world.

Program Guidelines

Applicants must identify the U.S. and Russian organizations with which they are proposing to collaborate to recruit and select participants overseas and support them in program activities. Applicants should also involve a well-established Russian institution or organization that has a science focus and good reputation for collaboration. Proposals should contain letters of commitment or support from partner organizations. A description of any previous cooperative activities with these partner organizations must be included in the proposal, along with information about their mission, activities, and accomplishments in conducting educational projects online. Applicants should clearly outline and describe the roles and responsibilities of all partner organizations in terms of project logistics, management and oversight.

Participants: The participants will be secondary school students (aged 15-18) from Russia and the United States who are paired on bi-national teams. Students on the same team within a country must be co-located in the same school or in neighboring schools in the same city. For example, one team might be composed of four students from a city in the Russia Far East and four students from a city on the west coast of the United States. Applicants should present their rationale for city and school selection as well as their proposed plan for composing the bi-national teams. Approximately 40 students total will participate; applicants are welcome to involve more students. With justification, applicants may propose the size and number of teams they wish, but no fewer than four bi-national teams.

This program is designed to reach out to a range of students. The scientific content should be accessible to intelligent, dedicated students but should not be at a level where only exceptionally advanced science students can participate. That said, a desirable outcome is a cadre of students who have an active interest in applied science and who may serve as role models for other youth in their countries.

Teachers/Mentors: Each bi-national team will have at least one teacher or mentor in each country. The mentors for each team, individually or collectively, should demonstrate knowledge of science, the technological applications to be used, and English. The teachers and mentors will facilitate online discussions and ensure that the Russian and American students are working together to develop their scientific projects for the Virtual Science Challenge. They will facilitate the students' participation in the virtual science fair and would accompany students if they travel to their partner community in the other country.

The language of the collaboration and the science fair will be English, so all participants must be proficient.

Components

(1) Online, Interactive Program

Bi-national teams of Russian and American high school students will work together online on a pre-determined science problem that is of mutual interest and concern. The science problem may be determined by the applicant and by the selected schools. The problem must be common for all teams. Their activities will be guided by teachers or mentors and may be incorporated into the school curriculum or stand as an extracurricular activity. The applicant's program design should indicate how many hours of activity per week are expected. The grant recipient should plan to create an online space dedicated to this program or use an existing platform.

The joint Russian-American teams will explore the parameters of the problem, form theories, perform research, share their findings, test hypotheses, and analyze the results. These activities will necessarily be undertaken by the students as individuals, as teams within their own school or community, and online with their teammates in the other country through a variety of means that may range from message boards to a 3D virtual world. These efforts will be punctuated by virtual workshops on topics related to their scientific inquiry facilitated by experts in the private sector.

The implementing organization should establish milestones to mark occasions when the teams can publicly share the results of their work to date, starting in spring 2012.

(2) International Virtual Science Fair

To represent the students' collaboration, the participating bi-national teams will share their research and proposed solutions to the science problem with the other teams and with interested students around the world through an international online science fair. Applicants must present their plans for marketing the fair and attracting a participatory audience. Applicants are encouraged to involve the U.S.-Russian teams involved in this project in an existing science fair or forum.

The fair will be primarily focused on presenting the teams' collaborative projects, but there will also be a competitive aspect. The fair will also engage the observers by inviting online debate and commentary regarding the projects.

While physical exchanges between the United States and Russia are not envisioned to be part of this project, the one- or two-way exchange of students and their mentors that allows them to collaborate in person during three-week visits to the partner country are allowed. Any applicant proposing such exchanges must clearly detail their intentions and the source of the funding.

Competitive proposals will include the following:

• A proposed timeline detailing potential activities, milestones for the public presentation of results, and project goals;

• A description of how the teams will be formed and how the participants—both secondary school students and their teachers/mentors—in Russia and the United States will be selected;

• A description of the online collaborative activities, including the workshops, seminars, and other activities facilitated by science experts;

• An outline of the international virtual science fair, including an overview of the platform, how projects will be presented, how students in other countries will be engaged, and how the winning team(s) will be recognized;

• A plan that demonstrates how the participants can maintain contacts initiated during the program and how the tools and methods used in this program can be harnessed to allow these and other U.S. and foreign students to collaborate and communicate beyond the life of this grant;

• Letters of commitment from private sector partners to support the program;

• A description of the applicant organization's relevant expertise in the project area, work in the two countries, and experience managing similar programs;

• Resumes of experienced staff who have demonstrated a commitment to implement and monitor projects and ensure outcomes;

• A comprehensive plan to evaluate whether the program achieves the specific objectives described in the narrative;

• A plan for how the project might be sustained in Russia and replicated in other countries after this year of activities.

In a cooperative agreement, the Department is substantially involved in program activities above and beyond routine monitoring. ECA's activities and responsibilities for this program are as follows:

• Review and approval of all program publicity and other materials;

• Liaison with the U.S. Embassy and country desk officers at the Department of State;

• Collaborating with the award recipient on outreach to private sector partners for supplemental activities;

• Final approval of participants;

• Working with the award recipient to publicize the program through various media outlets; and

• Monitoring and evaluating the program as necessary, through site visits and/or debriefing sessions.

II. Award Information

Type of Award: Cooperative Agreement.

Fiscal Year Funds: FY 2012.

Approximate Total Funding: $150,000, pending the availability of funds.

Approximate Number of Awards: One.

Anticipated Award Date: November 15, 2011.

Anticipated Project Completion Date: August 31, 2013.

III. Eligibility Information

III.1. Eligible Applicants

Applications may be submitted by public and private non-profit organizations meeting the provisions described in Internal Revenue Code section 26 U.S.C. 501(c)(3).

III.2. Cost Sharing or Matching Funds

There is no minimum or maximum percentage required for this competition. However, the Bureau encourages applicants to provide maximum levels of cost sharing and funding in support of its programs.

When cost sharing is offered, it is understood and agreed that the applicant must provide the amount of cost sharing as stipulated in its proposal and later included in an approved agreement. Cost sharing may be in the form of allowable direct or indirect costs. For accountability, you must maintain written records to support all costs which are claimed as your contribution, as well as costs to be paid by the Federal government. Such records are subject to audit. The basis for determining the value of cash and in-kind contributions must be in accordance with OMB Circular A-110, (Revised), Subpart C.23—Cost Sharing and Matching. In the event you do not provide the minimum amount of cost sharing as stipulated in the approved budget, ECA's contribution will be reduced in like proportion.

III.3. Other Eligibility Requirements

(a.) Bureau grant guidelines require that organizations with less than four years experience in conducting international exchanges be limited to $60,000 in Bureau funding. ECA anticipates making one award in an amount of $150,000 to support program and administrative costs required to implement this exchange program. Therefore, organizations with less than four years experience in conducting international exchanges are ineligible to apply under this competition. The Bureau encourages applicants to provide maximum levels of cost sharing and funding in support of its programs.

IV. Application and Submission Information

Note: Please read the complete announcement before sending inquiries or submitting proposals. Once the RFGP deadline has passed, Bureau staff may not discuss this competition with applicants until the proposal review process has been completed.

IV.1. Contact Information To Request an Application Package

Please contact the Youth Programs Division, ECA/PE/C/PY, SA-5, 3rd floor, U.S. Department of State, 2200 C Street, NW., Washington, DC 20037, (202) 632-6079, PiersonCompeauHM@state.gov to request a Solicitation Package. Please refer to the Program name and Funding Opportunity Number ECA/PE/C/PY-12-02 when making your request.

Alternatively, an electronic application package may be obtained from grants.gov. Please see section IV.3f for further information.

The Solicitation Package contains the Proposal Submission Instruction (PSI) document which consists of required application forms, and standard guidelines for proposal preparation. It also contains the Project Objectives, Goals and Implementation (POGI) document, which provides specific information, award criteria and budget instructions tailored to this competition.

Please specify ECA Program Officer Carolyn Lantz and refer to the Funding Opportunity Number ECA/PE/C/PY-12-02 on all other inquiries and correspondence.

IV.2. To Download a Solicitation Package Via Internet

The entire Solicitation Package may be downloaded from the Bureau's Web site at http://exchanges.state.gov/grants/open2.html, or from the Grants.gov Web site at http://www.grants.gov.

Please read all information before downloading.

IV.3. Content and Form of Submission

Applicants must follow all instructions in the Solicitation Package. The application should be submitted per the instructions under IV.3f. Application Deadline and Methods of Submission section below.

IV.3a. You are required to have a Dun and Bradstreet Data Universal Numbering System (DUNS) number to apply for a grant or cooperative agreement from the U.S. Government. This number is a nine-digit identification number, which uniquely identifies business entities. Obtaining a DUNS number is easy and there is no charge. To obtain a DUNS number, access http://www.dunandbradstreet.com or call 1-866-705-5711. Please ensure that your DUNS number is included in the appropriate box of the SF-424 which is part of the formal application package.

IV.3b. All proposals must contain an executive summary, proposal narrative and budget.

Please refer to the Solicitation Package. It contains the mandatory Proposal Submission Instructions (PSI) document and the Project Objectives, Goals and Implementation (POGI) document for additional formatting and technical requirements.

IV.3c. All Federal award recipients and sub-recipients must maintain current registrations in the Central Contractor Registration (CCR) database and have a Dun and Bradstreet Data Universal Numbering System (DUNS) number. Recipients and sub-recipients must maintain accurate and up-to-date information in the CCR until all program and financial activity and reporting have been completed. All entities must review and update the information at least annually after the initial registration and more frequently if required information changes or another award is granted.

You must have nonprofit status with the IRS at the time of application. Please note: Effective January 7, 2009, all applicants for ECA Federal assistance awards must include in their application the names of directors and/or senior executives (current officers, trustees, and key employees, regardless of amount of compensation). In fulfilling this requirement, applicants must submit information in one of the following ways:

(1) Those who file Internal Revenue Service Form 990, “Return of Organization Exempt From Income Tax,” must include a copy of relevant portions of this form.

(2) Those who do not file IRS Form 990 must submit information above in the format of their choice.

In addition to final program reporting requirements, award recipients will also be required to submit a one-page document, derived from their program reports, listing and describing their grant activities. For award recipients, the names of directors and/or senior executives (current officers, trustees, and key employees), as well as the one- page description of grant activities, will be transmitted by the State Department to OMB, along with other information required by the Federal Funding Accountability and Transparency Act (FFATA), and will be made available to the public by the Office of Management and Budget on its USASpending.gov Web site as part of ECA's FFATA reporting requirements.

If your organization is a private nonprofit which has not received a grant or cooperative agreement from ECA in the past three years, or if your organization received nonprofit status from the IRS within the past four years, you must submit the necessary documentation to verify nonprofit status as directed in the PSI document. Failure to do so will cause your proposal to be declared technically ineligible.

IV.3d. Please take into consideration the following information when preparing your proposal narrative:

IV.3d.1. Adherence to All Regulations Governing The J Visa

The Office of Citizen Exchanges of the Bureau of Educational and Cultural Affairs is the official program sponsor of the exchange program covered by this RFGP, and an employee of the Bureau will be the “Responsible Officer” for the program under the terms of 22 CFR Part 62, which covers the administration of the Exchange Visitor Program (J visa program). Under the terms of 22 CFR Part 62, organizations receiving awards (either a grant or cooperative agreement) under this RFGP will be third parties “cooperating with or assisting the sponsor in the conduct of the sponsor's program.” The actions of recipient organizations shall be “imputed to the sponsor in evaluating the sponsor's compliance with” 22 CFR Part 62. Therefore, the Bureau expects that any organization receiving an award under this competition will render all assistance necessary to enable the Bureau to fully comply with 22 CFR Part 62 et seq.

The Bureau of Educational and Cultural Affairs places critically important emphases on the secure and proper administration of Exchange Visitor (J visa) Programs and adherence by recipient organizations and program participants to all regulations governing the J visa program status. Therefore, proposals should explicitlystate in writing that the applicant is prepared to assist the Bureau in meeting all requirements governing the administration of Exchange Visitor Programs as set forth in 22 CFR Part 62. If your organization has experience as a designated Exchange Visitor Program Sponsor, the applicant should discuss their record of compliance with 22 CFR Part 62 et seq., including the oversight of their Responsible Officers and Alternate Responsible Officers, screening and selection of program participants, provision of pre-arrival information and orientation to participants, monitoring of participants, proper maintenance and security of forms, record-keeping, reporting and other requirements.

It is acknowledged that virtual exchanges such as those included in this program are not included in the J-1 visa regulations governing exchange students coming to the United States.

The Office of Citizen Exchanges of ECA will be responsible for issuing any DS-2019 forms to participants in this program.

A copy of the complete regulations governing the administration of Exchange Visitor (J) programs is available at http://exchanges.state.gov or from: Office of Designation, Private Sector Programs Division, U.S. Department of State, ECA/EC/D/PS, SA-5, 5th Floor, 2200 C Street, NW., Washington, DC 20037.

IV.3d.2. Diversity, Freedom and Democracy Guidelines

Pursuant to the Bureau's authorizing legislation, programs must maintain a non-political character and should be balanced and representative of the diversity of American political, social, and cultural life. “Diversity” should be interpreted in the broadest sense and encompass differences including, but not limited to ethnicity, race, gender, religion, geographic location, socio-economic status, and disabilities. Applicants are strongly encouraged to adhere to the advancement of this principle both in program administration and in program content. Please refer to the review criteria under the ‘Support for Diversity' section for specific suggestions on incorporating diversity into your proposal. Public Law 104-319 provides that “in carrying out programs of educational and cultural exchange in countries whose people do not fully enjoy freedom and democracy,” the Bureau “shall take appropriate steps to provide opportunities for participation in such programs to human rights and democracy leaders of such countries.” Public Law 106-113 requires that the governments of the countries described above do not have inappropriate influence in the selection process. Proposals should reflect advancement of these goals in their program contents, to the full extent deemed feasible.

IV.3d.3. Program Monitoring and Evaluation

Proposals must include a plan to monitor and evaluate the project's success, both as the activities unfold and at the end of the program. The Bureau recommends that your proposal include a draft survey questionnaire or other technique plus a description of a methodology to use to link outcomes to original project objectives. The Bureau expects that the recipient organization will track participants or partners and be able to respond to key evaluation questions, including satisfaction with the program, learning as a result of the program, changes in behavior as a result of the program, and effects of the program on institutions (institutions in which participants work or partner institutions). The evaluation plan should include indicators that measure gains in mutual understanding as well as substantive knowledge.

Successful monitoring and evaluation depend heavily on setting clear goals and outcomes at the outset of a program. Your evaluation plan should include a description of your project's objectives, your anticipated project outcomes, and how and when you intend to measure these outcomes (performance indicators). The more that outcomes are “smart” (specific, measurable, attainable, results-oriented, and placed in a reasonable time frame), the easier it will be to conduct the evaluation. You should also show how your project objectives link to the goals of the program described in this RFGP.

Your monitoring and evaluation plan should clearly distinguish between program outputs and outcomes. Outputsare products and services delivered, often stated as an amount. Output information is important to show the scope or size of project activities, but it cannot substitute for information about progress towards outcomes or the results achieved. Examples of outputs include the number of people trained or the number of seminars conducted. Outcomes, in contrast, represent specific results a project is intended to achieve and is usually measured as an extent of change. Findings on outputs and outcomes should both be reported, but the focus should be on outcomes.

We encourage you to assess the following four levels of outcomes, as they relate to the program goals set out in the RFGP (listed here in increasing order of importance):

1. Participant satisfaction with the program and exchange experience.

2. Participant learning, such as increased knowledge, aptitude, skills, and changed understanding and attitude. Learning includes both substantive (subject-specific) learning and mutual understanding.

3. Participant behavior, concrete actions to apply knowledge in work or community; greater participation and responsibility in civic organizations; interpretation and explanation of experiences and new knowledge gained; continued contacts between participants, community members, and others.

4. Institutional changes, such as increased collaboration and partnerships, policy reforms, new programming, and organizational improvements.

Please note: Consideration should be given to the appropriate timing of data collection for each level of outcome. For example, satisfaction is usually captured as a short-term outcome, whereas behavior and institutional changes are normally considered longer-term outcomes.

Overall, the quality of your monitoring and evaluation plan will be judged on how well it (1) Specifies intended outcomes; (2) gives clear descriptions of how each outcome will be measured; (3) identifies when particular outcomes will be measured; and (4) provides a clear description of the data collection strategies for each outcome (i.e.,surveys, interviews, or focus groups). (Please note that evaluation plans that deal only with the first level of outcomes [satisfaction] will be deemed less competitive under the present evaluation criteria.)

Recipient organizations will be required to provide reports analyzing their evaluation findings to the Bureau in their regular program reports. All data collected, including survey responses and contact information, must be maintained for a minimum of three years and provided to the Bureau upon request.

IV.3e. Please take the following information into consideration when preparing your budget:

IV.3e.1. Applicants must submit SF-424A Budget Information Non-Construction Programs along with a comprehensive budget for the entire program. There must be a summary budget as well as breakdowns reflecting both administrative and program budgets. Applicants may provide separate sub-budgets for each program component, phase, location, or activity to provide clarification.

Please refer to the Solicitation Package for complete budget guidelines and formatting instructions.

IV.3F. Application Deadline and Methods of Submission:

Application Deadline Date: Wednesday, August 31, 2011.

Reference Number: ECA/PE/C/PY-12-02.

Methods of Submission:Applications may be submitted in one of two ways:

(1) In hard-copy, via a nationally recognized overnight delivery service (i.e., Federal Express, UPS, Airborne Express, or U.S. Postal Service Express Overnight Mail, etc.), or

(2) Electronically through http://www.grants.gov.

Along with the Project Title, all applicants must enter the above Reference Number in Box 11 on the SF-424 contained in the mandatory Proposal Submission Instructions (PSI) of the solicitation document.

IV.3f.1. Submitting Printed Applications

Applications must be shipped no later than the above deadline. Delivery services used by applicants must have in-place, centralized shipping identification and tracking systems that may be accessed via the Internet and delivery people who are identifiable by commonly recognized uniforms and delivery vehicles. Proposals shipped on or before the above deadline but received at ECA more than seven days after the deadline will be ineligible for further consideration under this competition. Proposals shipped after the established deadlines are ineligible for consideration under this competition. ECA will not notify you upon receipt of application. It is each applicant's responsibility to ensure that each package is marked with a legible tracking number and to monitor/confirm delivery to ECA via the Internet. Delivery of proposal packages maynot be made via local courier service or in person for this competition. Faxed documents will not be accepted at any time. Only proposals submitted as stated above will be considered.

Important note: When preparing your submission please make sure to include one extra copy of the completed SF-424 form and place it in an envelope addressed to ECA/EX/PM.

The original and six copies of the application should be sent to:

Program Management Division, ECA-IIP/EX/PM, Ref.: ECA/PE/C/PY-12-02, SA-5, Floor 4, Department of State, 2200 C Street, NW., Washington, DC 20037.

With the submission of the proposal package, please also e-mail the Executive Summary, Proposal Narrative, and Budget sections of the proposal, as well as any attachments essential to understanding the program, in Microsoft Word, Excel, and/or PDF, to the program officer at LantzCS@state.gov. The Bureau will provide these files electronically to the Public Affairs Section at the U.S. Embassy in Moscow for their review.

IV.3f.2. Submitting Electronic Applications

Applicants have the option of submitting proposals electronically through Grants.gov (http://www.grants.gov). Complete solicitation packages are available at Grants.gov in the Find portion of the system.

Please Note: ECA bears no responsibility for applicant timeliness of submission or data errors resulting from transmission or conversion processes for proposals submitted via Grants.gov.

Please follow the instructions available in the ‘Get Started’ portion of the site (http://www.grants.gov/GetStarted).

Several of the steps in the Grants.gov registration process could take several weeks. Therefore, applicants should check with appropriate staff within their organizations immediately after reviewing this RFGP to confirm or determine their registration status with Grants.gov.

Once registered, the amount of time it can take to upload an application will vary depending on a variety of factors including the size of the application and the speed of your Internet connection. In addition, validation of an electronic submission via Grants.gov can take up to two business days.

Therefore, we strongly recommend that you not wait until the application deadline to begin the submission process through Grants.gov.

The Grants.gov Web site includes extensive information on all phases/aspects of the Grants.gov process, including an extensive section on frequently asked questions, located under the “For Applicants” section of the Web site. ECA strongly recommends that all potential applicants review thoroughly the Grants.gov Web site, well in advance of submitting a proposal through the Grants.gov system. ECA bears no responsibility for data errors resulting from transmission or conversion processes.

Direct all questions regarding Grants.gov registration and submission to:

Grants.gov Customer Support.

Contact Center Phone: 800-518-4726.

Business Hours: Monday-Friday, 7 a.m.-9 p.m. Eastern Time.

E-mail: support@Grants.gov.

Applicants have until midnight (12 a.m.), Washington, DC time of the closing date to ensure that their entire application has been uploaded to the Grants.gov site. There are no exceptions to the above deadline. Applications uploaded to the site after midnight of the application deadline date will be automatically rejected by the grants.gov system, and will be technically ineligible.

Please refer to the Grants.gov Web site, for definitions of various “application statuses” and the difference between a submission receipt and a submission validation. Applicants will receive a validation e-mail from grants.gov upon the successful submission of an application. Again, validation of an electronic submission via Grants.gov can take up to two business days. Therefore, we strongly recommend that you not wait until the application deadlineto begin the submission process through Grants.gov. ECA will not notify you upon receipt of electronic applications.

It is the responsibility of all applicants submitting proposals via the Grants.gov Web portal to ensure that proposals have been received by Grants.gov in their entirety, and ECA bears no responsibility for data errors resulting from transmission or conversion processes.

IV.3g. Intergovernmental Review of Applications: Executive Order 12372 does not apply to this program.

V. Application Review Information

V.1. Review Process

The Bureau will review all proposals for technical eligibility. Proposals will be deemed ineligible if they do not fully adhere to the guidelines stated herein and in the Solicitation Package. All eligible proposals will be reviewed by the program office, as well as the Public Diplomacy section overseas, where appropriate. Eligible proposals will be subject to compliance with Federal and Bureau regulations and guidelines and forwarded to Bureau grant panels for advisory review. Proposals may also be reviewed by the Office of the Legal Adviser or by other Department elements. Final funding decisions are at the discretion of the Department of State's Assistant Secretary for Educational and Cultural Affairs. Final technical authority for assistance awards (cooperative agreements) resides with the Bureau's Grants Officer.

Review Criteria

Technically eligible applications will be competitively reviewed according to the criteria stated below.

1. Quality of the Program Idea: Proposals should exhibit originality, substance, precision, and relevance to the Bureau's mission.

2. Program Planning/Ability to Achieve Program Objectives: Proposals should clearly convey a feasible plan that supports program goals. The substance of the online activities and the fair should be described in detail. A detailed agenda and relevant work plan should adhere to the program overview and guidelines described above. Reviewers will assess how objectives will be achieved and make sure that the timetable is feasible for completion of major tasks.

3. Support of Diversity: Proposals should demonstrate substantive support of the Bureau's policy on diversity. Geographic, gender, and socio-economic diversity should be reflected in the selection of schools and participants.

4. Institutional Capacity/Track Record: Proposed personnel and institutional resources in both the United States and Russia should be appropriate to achieve the program goals. Proposals should exhibit experience among the staff in implementing web-based educational projects at the high school level. Reviewers will assess the organization's institutional record of successful programs, including responsible fiscal management and full compliance with all reporting requirements as determined by the Bureau's Grants Division. The Bureau will consider the past performance of prior recipients and the demonstrated potential of new applicants.

5. Long-term Activities/Sustainability: Proposals should provide a plan for continued activities (without Bureau support) ensuring that Bureau supported programs are not isolated events.

6. Program Evaluation: Proposals should include a plan to evaluate the activity's success, both as the activities unfold and at the end of the program. Draft survey questionnaires or other techniques, plus descriptions of methodologies that link outcomes to original project objectives, are strongly recommended.

7. Cost-Effectiveness/Cost Sharing: The overhead and administrative components of the proposal, including salaries and honoraria, should be kept as low as possible. All other items should be necessary and appropriate. Proposals should maximize cost-sharing through other private sector support as well as institutional direct funding contributions.

VI. Award Administration Information

VI.1a. Award Notices

Final awards cannot be made until funds have been appropriated by Congress, allocated and committed through internal Bureau procedures. Successful applicants will receive an Federal Assistance Award (FAA) from the Bureau's Grants Office. The FAA and the original proposal with subsequent modifications (if applicable) shall be the only binding authorizing document between the recipient and the U.S. Government. The FAA will be signed by an authorized Grants Officer, and mailed to the recipient's responsible officer identified in the application.

Unsuccessful applicants will receive notification of the results of the application review from the ECA program office coordinating this competition.

VI.2. Administrative and National Policy Requirements

Terms and Conditions for the Administration of ECA agreements include the following:

Office of Management and Budget Circular A-122, Cost Principles for Nonprofit Organizations.

Office of Management and Budget Circular A-21, Cost Principles for Educational Institutions.

OMB Circular A-87, Cost Principles for State, Local and Indian Governments.

OMB Circular No. A-110 (Revised), Uniform Administrative Requirements for Grants and Agreements with Institutions of Higher Education, Hospitals, and other Nonprofit Organizations.

OMB Circular No. A-102, Uniform Administrative Requirements for Grants-in-Aid to State and Local Governments.

OMB Circular No. A-133, Audits of States, Local Government, and Non-profit Organizations.

Please reference the following Web sites for additional information:

http://www.whitehouse.gov/omb/grants.

http://fa.statebuy.state.gov

VI.3. Reporting Requirements

You must provide ECA with a hard copy original plus one copy of the following reports:

1. Quarterly program and financial reports.

2. A final program and financial report no more than 90 days after the expiration of the award.

3. A concise, one-page final program report summarizing program outcomes no more than 90 days after the expiration of the award. This one-page report will be transmitted to OMB, and be made available to the public via OMB's USAspending.gov Web site—as part of ECA's Federal Funding Accountability and Transparency Act (FFATA) reporting requirements.

4. A SF-PPR, Performance Progress Report Cover Sheet with all program reports.

Award recipients will be required to provide reports analyzing their evaluation findings to the Bureau in their regular program reports. (Please refer to IV. Application and Submission Instructions (IV.3.d.3) above for Program Monitoring and Evaluation information.)

All data collected, including survey responses and contact information, must be maintained for a minimum of three years and provided to the Bureau upon request.

All reports must be sent to the ECA Grants Officer and ECA Program Officer listed in the final assistance award document.

VII. Agency Contacts

For questions about this announcement, contact: Carolyn Lantz, U.S. Department of State, Youth Programs Division, ECA/PE/C/PY, SA-5, 3rd floor, 2200 C Street, NW., Washington, DC 20037, Telephone (202) 632-6421, Fax, (202) 632-9355, E- mail: LantzCS@state.gov.

All correspondence with the Bureau concerning this RFGP should reference the above title and ECA/PE/C/PY-12-02.

Please read the complete announcement before sending inquiries or submitting proposals. Once the RFGP deadline has passed, Bureau staff may not discuss this competition with applicants until the proposal review process has been completed.

VIII. Other Information

Notice: The terms and conditions published in this RFGP are binding and may not be modified by any Bureau representative. Explanatory information provided by the Bureau that contradicts published language will not be binding. Issuance of the RFGP does not constitute an award commitment on the part of the Government. The Bureau reserves the right to reduce, revise, or increase proposal budgets in accordance with the needs of the program and the availability of funds. Awards made will be subject to periodic reporting and evaluation requirements per section VI.3 above.

Dated: June 29, 2011.
Ann Stock,
Assistant Secretary for Educational and Cultural Affairs, Department of State.

[FR Doc. 2011-17098 Filed 7-6-11; 8:45 am]

BILLING CODE 4710-05-P